NUCLEAR REGULATORY COMMISSION

Notice of a Public Meeting on Assessing Future Regulatory Research Needs

AGENCY: Nuclear Regulatory Commission.

ACTION: Notice of public meeting.

SUMMARY: The U.S. Nuclear Regulatory Commission (NRC) will hold a third meeting of nuclear experts from the government, the nuclear industry, academia, and the public on January 24-25, 2001. As a result of the first two meetings, the nuclear experts issued a draft report composed of the individual views of the experts on the role and direction of regulatory research. The draft report contains a number of recommendations. The purpose of this meeting is to evoke and evaluate strategies for implementing the recommendations. RES will provide the panel with RES perspectives. The licensing offices and the Regions will also provide an overview of their technical assistance and research activities. The meeting is open to the public and all interested parties may attend.

DATES: The meeting will be held from 8:00 AM to 5:00 PM on January 24 and 25, 2001, at the Marriott Residence Inn located at 7335 Wisconsin Avenue in Bethesda, Maryland 20804. The telephone number of the hotel is 301-718-0200.

FOR FURTHER INFORMATION CONTACT: Questions with respect to this meeting should be referred to James W. Johnson, Office of Nuclear Regulatory Research, U.S. Nuclear Regulatory Commission at (301) 415-6293; fax 301-415-5153; E-mail jwj@nrc.gov.

SUPPLEMENTARY INFORMATION: Parking is available in the hotel for a modest cost. Additional parking in Bethesda is somewhat limited. The hotel can also be reached by Metro.

The hotel is located one block south of the Bethesda Metro stop on the Red Line and is on the opposite side of the street from the Metro station. Seating for the public is limited and therefore will be on a first-come, first serve basis.

Dated at Rockville, Maryland, this 5th day of January 2001.
For the Nuclear Regulatory Commission.
Ashok C. Thadani,
Director, Office of Nuclear Regulatory Research, U.S. Nuclear Regulatory Commission.

[FR Doc. 01-834 Filed 1-10-01; 8:45 am]

BILLING CODE 7590-01-P